ENVIRONMENTAL PROTECTION AGENCY

40 CFR Part 52

[CA032-02-0241b; FRL-7001-3]

Revisions to the California State Implementation Plan, Kern County Air Pollution Control District, Monterey Bay Unified Air Pollution District, Modoc County Air Pollution Control District

AGENCY: Environmental Protection Agency (EPA).

ACTION: Proposed rule.

SUMMARY: EPA is proposing to approve revisions to the Kern County Air Pollution Control District (KCAPCD), Modoc County Air Pollution Control District (MCAPCD), and Monterey Bay Unified Air Pollution District (MBUAPCD) portions of the California State Implementation Plan (SIP). These revisions concern visible emissions (VE) emissions from many different sources of air pollution. We are proposing to approve local rules to regulate these emission sources under the Clean Air Act as amended in 1990 (CAA or the Act).

DATES: Any comments on this proposal must arrive by August 16, 2001.

ADDRESSES: Mail comments to Andy Steckel, Rulemaking Office Chief (AIR-4), U.S. Environmental Protection Agency, Region IX, 75 Hawthorne Street, San Francisco, CA 94105-3901.

You can inspect copies of the submitted SIP revisions and EPA's technical support documents (TSDs) at our Region IX office during normal business hours. You may also see copies of the submitted SIP revisions at the following locations:

California Air Resources Board, Stationary Source Division, Rule Evaluation Section, 1001 “I” Street, Sacramento, CA 95814.

Kern County Air Pollution Control District, 2700 M Street, Suite 302, Bakersfield, CA 93301;

Modoc County Air Pollution Control, 202 West 4th Street, Alturas, CA 96101; and,

Monterey Bay Unified Air Pollution District, 24580 Silver Cloud Court, Monterey, CA 93940-6536.

FOR FURTHER INFORMATION CONTACT: Jerald S. Wamsley, Rulemaking Office (Air-4), U.S. Environmental Protection Agency, Region IX, (415) 744-1226.

SUPPLEMENTARY INFORMATION: This proposal addresses the following local rules: KCAPCD Rule 401—Visible Emissions, MCAPCD Rule 4.1—Visible Emissions, and MBUAPCD Rule 400—Visible Emissions. In the Rules and Regulations section of this Federal Register, we are approving these local rules in a direct final action without prior proposal because we believe these SIP revisions are not controversial. However, if we receive adverse comments, we will publish a timely withdrawal of the direct final rule and address the comments in subsequent action based on this proposed rule. We do not plan to open a second comment period, so anyone interested in commenting should do so at this time. If we do not receive adverse comments, no further activity is planned. For further information, please see the direct final action.

Dated: June 8, 2001.
Keith Takata,
Acting Regional Administrator, Region IX.

[FR Doc. 01-17703 Filed 7-16-01; 8:45 am]

BILLING CODE 6560-50-P